DEPARTMENT OF AGRICULTURE

Submission for OMB Review; Comment Request

November 3, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 7, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Blood and Tissue Collection, and Recordkeeping, at Slaughtering, Rendering, and Approved Livestock Marketing Establishments and Facilities.

OMB CONTROL NUMBER: 0579-0212.

Summary of Collection: The Animal Health Protection Act (AHPA) of 2002 is the primary Federal law governing the protection of animal health. The AHPA is contained in Title X, Subtitle E, Sections 10401-18 of Public Law 107-171, May 13, 2002, the Farm Security and Rural Investment Act of 2002. As part of its mission to monitor and test for livestock diseases, the Department of Agriculture, Animal and Plant Health Inspection Service (APHIS), Veterinary Services (VS), maintains with approved slaughtering, rendering, and livestock marketing establishments and facilities agreements and procedures for animal disease surveillance and reporting, maintaining livestock movement records, and collecting blood and tissue samples.

These agreements and procedures include information collection activities such as Approved Livestock Facility Agreements, Requests for Appeal of Denial of Agreement, Withdrawal of Livestock Facility Agreements, Requests for Appeal of Withdrawal of Agreements, Listing Agreements for Slaughter or Rendering Establishments, Slaughter or Rendering Facility Inspection Reports, Requests for Appeal of Denial of Listings, Requests for Appeal of Withdrawal of Listing, Schedules of Sales Days, Diseased Animal Notifications, Quarantine Signs, and maintaining animal movement records.

Need and use of the Information: The collection of this information identifies and prevents the interstate movement of unhealthy livestock animals with diseases within the United States. The information collected is used to: (1) Establish Livestock Facility Agreements and Listing Agreements between APHIS and owners and operators of slaughtering and rendering establishments and livestock marketing facilities, (2) rapidly confirm livestock disease occurrences through reporting and sampling, (3) trace the sources of diseases, as well as the movement of other potentially infected animals, and (4) provide epidemiological data for new or updated risk analyses in support of disease control programs, and, as required, opening international markets for animal products. Without the agreements and sampling/reporting procedures, the risk of contagious disease spread becomes very high with serious consequences for U.S. meat industries and export markets.

Description of Respondents: Business or other-for profit; State, Local or Tribal Government.

Number of Respondents: 791.

Frequency of Responses: Reporting: On occasion.

Total Burden Hours: 1,111.

Ruth Brown,
Departmental Information Collection Clearance Officer.

[FR Doc. 2020-24705 Filed 11-5-20; 8:45 am]

BILLING CODE 3410-34-P